ENVIRONMENTAL PROTECTION AGENCY

40 CFR Part 52

[LA-63-2-7585; FRL-7451-8]

Approval of Revisions to the Louisiana Department of Environmental Quality Title 33 Environmental Quality Part III; Chapter 6 Emission Reduction Credits Banking in Nonattainment Areas

AGENCY: Environmental Protection Agency (EPA).

ACTION: Final rule; correction.

SUMMARY: The Environmental Protection Agency (EPA) published in the Federal Register of September 27, 2002 (67 FR 60871) a document approving revisions to the Louisiana Department of Environmental Quality Title 33 Environmental Quality Part III; Air Chapter 6 Emission Reduction Credits Banking in Nonattainment Areas. This document corrects an error in the September 30, 2002, rulemaking action.

EFFECTIVE DATE: This rule will be effective February 14, 2003.

FOR FURTHER INFORMATION CONTACT: Ms. Laura Stankosky of the EPA Region 6 Air Permits Section at (214) 665-7525.

SUPPLEMENTARY INFORMATION: The EPA published in the Federal Register of September 27, 2002 (67 FR 60871) a document approving revisions to the Louisiana Department of Environmental Quality Title 33 Environmental Quality Part III; Air Chapter 6 Emission Reduction Credits Banking in Nonattainment Areas. On page 60873 of the September 27, 2002 action, EPA incorrectly stated that Tulane Environmental Law Clinic (TELC) submitted comments. We should instead have stated that the TELC submitted comments on behalf of its client, the Louisiana Environmental Action Network (LEAN).

Authority: 42 U.S.C. 7401 et seq.

Dated: January 30, 2003.
Lawrence E. Starfield,
Acting Regional Administrator, Region 6.

[FR Doc. 03-3583 Filed 2-13-03; 8:45 am]

BILLING CODE 6560-50-P